DEPARTMENT OF DEFENSE

GENERAL SERVICES ADMINISTRATION

NATIONAL AERONAUTICS AND SPACE ADMINISTRATION

[OMB Control No. 9000-0001; Docket No. 2020-0053; Sequence No. 14]

Submission for OMB Review; Standard Form 28, Affidavit of Individual Surety

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding the Standard Form 28, Affidavit of Individual Surety.

DATES: Submit comments on or before February 22, 2021.

ADDRESSES: Written comments and recommendations for this information collection should be sent within 30 days of publication of this notice to www.reginfo.gov/public/do/PRAMain. Find this particular information collection by selecting “Currently under Review—Open for Public Comments” or by using the search function.

Additionally, submit a copy to GSA through http://www.regulations.gov and follow the instructions on the site. This website provides the ability to type short comments directly into the comment field or attach a file for lengthier comments.

Instructions: All items submitted must cite OMB Control number 9000-0001, Standard Form 28, Affidavit of Individual Surety. Comments received generally will be posted without change to http://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Zenaida Delgado, Procurement Analyst, at telephone 202-969-7207, or zenaida.delgado@gsa.gov.

SUPPLEMENTARY INFORMATION:

A. OMB control number, Title, and any Associated Form(s)

9000-0001, Standard Form 28, Affidavit of Individual Surety.

B. Needs and Uses

This clearance covers the information that offerors or contractors must submit to comply with the following Federal Acquisition Regulation (FAR) requirement:

• Standard Form (SF) 28, Affidavit of Individual Surety. This form is used by all executive agencies, including the Department of Defense (DoD), to obtain information from individuals wishing to serve as sureties to Government bonds. Offerors and contractors may use an individual surety as security for bonds required under a solicitation or contract for supplies or services (including construction). It is an elective decision on the part of the offeror or contractor to use individual sureties instead of other available sources of surety or sureties for Government bonds.

The contracting officer uses the information on the SF 28 to determine the acceptability of individuals proposed as sureties.

C. Annual Burden

Respondents: 10.

Total Annual Responses: 20.

Total Burden Hours: 6.

D. Public Comment

A 60-day notice was published in the Federal Register at 85 FR 70151, on November 4, 2020. One comment was received; however, it did not change the estimate of the burden.

Comment: The commenter requested the FAR Council implement FAR Case 2017-003, Individual Sureties, and, once implemented, create the necessary reporting requirements that will mitigate, if not eliminate, instances where individual surety bonds are accepted with worthless assets or with assets that are beyond the control of contracting officials. Accordingly, the commenter finds the renewal/revision of the information collection premature because it is uncertain what types of information should be solicited on the SF 28.

Response: The renewal of the information collection is required to ensure compliance with the Paperwork Reduction Act as the current approval for OMB Control number 9000-0001 expires on February 28,2021. As stated in section VII. of the final rule preamble for FAR Case 2017-003 (86 FR 3682), changes to the SF 28 are needed to update the language in the form to be consistent with the changes to the FAR text. The modification of the SF 28 does not impose additional information collection requirements.

Obtaining Copies: Requesters may obtain a copy of the information collection documents from the GSA Regulatory Secretariat Division, by calling 202-501-4755 or emailing GSARegSec@gsa.gov. Please cite OMB Control No. 9000-0001, Standard Form 28, Affidavit of Individual Surety.

William F. Clark,
Director, Office of Government-wide Acquisition Policy, Office of Acquisition Policy, Office of Government-wide Policy.

[FR Doc. 2021-01334 Filed 1-21-21; 8:45 am]

BILLING CODE 6820-EP-P